SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before March 20, 2023.

ADDRESSES: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number.

FOR FURTHER INFORMATION CONTACT: You may obtain a copy of the information collection and supporting documents from the Agency Clearance Office at Curtis.Rich@sba.gov; (202) 205-7030, or from www.reginfo.gov/public/do/PRAMain.

SUPPLEMENTARY INFORMATION: The Small Business Administration established a Government-wide mentor-protégé program for all small business concerns, (the All Small Mentor Protégé Program) consistent with SBA's mentor-protégé program for Participants in SBA's 8(a) Business Development (BD) program. This information collection facilitates ongoing implementation and administration of that program. The collection of information consists of: SBA Form 2459, Mentor Protégé Agreement, which collects information to assist with evaluating the protégé's needs and goals as well as the mentor's ability to meet those needs; SBA Form 2460, Mentor Protégé Benefits Report, which collects information to determine the participants continuing eligibility to participate in the All Small Business Mentor Protégé Program and evaluate program performance, including the level of technical, management, and financial assistance the mentor provided to the protégé. Each mentor is also required to submit information to show that it is financially capable of carrying out its responsibilities to assist the protégé firm meet its goals. Finally, for those mentors and proteges that are involved in joint ventures, this information collection requires them to submit a copy of quarterly financial statements and performance of work reports to help SBA monitor compliance with performance of work requirements.

Both Forms 2459 and 2460 have been changed to collect additional information. Changes to Form 2459 include questions about other mentor protégé agreements and information that might lead to a finding of affiliation between the mentor and protege, and changes to Form 2460 include additional clarifying questions about joint ventures, contract offers, awards and performance, as well as information about subcontract awards and the protégé's revenue and/or staff growth.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

OMB Control 3245-0393

Title: “Mentor Protégé Program.”

Description of Respondents: Small or large business concerns participating in the All Small Mentor Protégé program as a protégé or mentor, consistent with SBA's mentor-.

Estimated Number of Respondents: 2,000.

Estimated Annual Responses: 10,000.

Estimated Annual Hour Burden: 12,000.

Curtis Rich,
Agency Clearance Officer.

[FR Doc. 2023-03379 Filed 2-16-23; 8:45 am]

BILLING CODE 8026-09-P